DEPARTMENT OF AGRICULTURE

Farm Service Agency

7 CFR Part 770

Rural Housing Service

Rural Business-Cooperative Service

Rural Utilities Service

Farm Service Agency

7 CFR Parts 1823, 1902, 1951 and 1956

RIN 0560-AF43

Loans to Indian Tribes and Tribal Corporations: Delay of Effective Date

AGENCY: Farm Service Agency, Rural Housing Service, Rural Business-Cooperative Service, Rural Utilities Service, Department of Agriculture.

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled Loans to Indian Tribes and Tribal Corporations, published in the Federal Register on January 9, 2001, 66 FR 1563. That rule consolidates and revises the Indian Tribal Land Acquisition Program regulations. To the extent that 5 U.S.C. section 553 applies to this action, it is exempt from notice and comment because it constitutes a rule of procedure under 5 U.S.C. section 553(b)(A). Alternatively, the Department's implementation of this rule without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule effective immediately upon publication.

EFFECTIVE DATES: The effective date of the Loans to Indian Tribes and Tribal Corporations, published in the Federal Register on January 9, 2001, at 66 FR 1563, is delayed for 60 days, from February 8, 2001 to a new effective date of April 9, 2001.

FOR FURTHER INFORMATION CONTACT: Gary West, Senior Loan Officer, Farm Loan Program, Loan Servicing and Property Management Division, Farm Service Agency, USDA, 1400 Independence Avenue, SW., STOP 0523, Washington, DC 20250-0523. Telephone (202) 690-0949.

Dated: January 29, 2001.
Ann M. Veneman,
Secretary.

[FR Doc. 01-2868 Filed 2-2-01; 8:45 am]

BILLING CODE 3410-05-M